OVERSEAS PRIVATE INVESTMENT CORPORATION

Board of Directors Meeting

July 12, 2007.

Time and Date: Thursday, July 12, 2007, 10 a.m. (Open Portion) 10:15 a.m. (Closed Portion).

Place: Offices of the Corporation, Twelfth Floor Board Room, 1100 New York Avenue, NW., Washington, DC.

Status: Meeting Open to the Public from 10 a.m. to 10:15 a.m. Closed portion will commence at 10:15 a.m. (approx.)

Matters to be Considered: 1. President's Report.

2. Approval of April 26, 2007 Minutes (Open Portion).

Further Matters to be Considered: (Closed to the Public 10:15 a.m.)

1. Report from Audit Committee.

2. Finance and Insurance Project—The Democratic Republic of Congo.

3. Finance Project—Costa Rica.

4. Approval of April 26, 2007 Minutes (Closed Portion).

7. Pending Major Projects.

8. Reports.

CONTACT PERSON FOR INFORMATION: Information on the meeting may be obtained from Connie M. Downs at (202) 336-8438.

Dated: June 28, 2007.
Connie M. Downs,
Corporate Secretary, Overseas Private Investment Corporation.

[FR Doc. 07-3229 Filed 6-28-07; 12:15 pm]

BILLING CODE 3210-01-M